DEPARTMENT OF ENERGY

Federal Energy Regulatory Commission

Combined Notice of Filings

Take notice that the Commission has received the following Natural Gas Pipeline Rate and Refund Report filings:

Filings Instituting Proceedings

Docket Numbers: RP12-396-000.

Applicants: Texas Eastern Transmission, LP.

Description: FOSA Modifications—FTS Agreements to be effective 4/1/2012.

Filed Date: 2/23/12.

Accession Number: 20120223-5087.

Comments Due: 5 p.m. ET 3/6/12.

Docket Numbers: RP12-397-000.

Applicants: Sabine Pipe Line LLC.

Description: Sabine Pipe Line LLC 2012 FRP & UFRP Tariff Filing to be effective 4/1/2012.

Filed Date: 2/24/12.

Accession Number: 20120224-5000.

Comments Due: 5 p.m. ET 3/7/12.

Docket Numbers: RP12-398-000.

Applicants: Iberdrola Renewables, Inc., Iberdrola Energy Services LLC.

Description: Petition for Waiver of Gas Regulations of Iberdrola Renewables, Inc. and Iberdrola Energy Services LLC.

Filed Date: 2/23/12.

Accession Number: 20120223-5115.

Comments Due: 5 p.m. ET 3/1/12.

Any person desiring to intervene or protest in any of the above proceedings must file in accordance with Rules 211 and 214 of the Commission's Regulations (18 CFR 385.211 and 385.214) on or before 5 p.m. Eastern time on the specified comment date. Protests may be considered, but intervention is necessary to become a party to the proceeding.

Filings in Existing Proceedings

Docket Numbers: RP11-1566-010.

Applicants: Tennessee Gas Pipeline Company, L.L.C.

Description: Rate Case 2011—Settlement Implementation Clean Up Sheet No. 19 to be effective 2/1/2012.

Filed Date: 2/23/12.

Accession Number: 20120223-5055.

Comments Due: 5 p.m. ET 3/6/12.

Docket Numbers: RP12-262-001.

Applicants: Midwestern Gas Transmission Company.

Description: Midwestern Gas Transmission Company submits tariff filing per 154.203: RPL Modification Compliance to be effective N/A.

Filed Date: 2/24/12.

Accession Number: 20120224-5051.

Comments Due: 5 p.m. ET 3/7/12.

Any person desiring to protest in any the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: February 24, 2012.
Nathaniel J. Davis, Sr.
Deputy Secretary.

[FR Doc. 2012-5067 Filed 3-1-12; 8:45 am]

BILLING CODE 6717-01-P